Title 3—

The President

Notice of July 30, 2008

Continuation of the National Emergency With Respect To the Actions of Certain Persons To Undermine the Sovereignty of Lebanon Or Its Democratic Processes And Institutions

On August 1, 2007, by Executive Order 13441, I declared a national emergency and ordered related measures blocking the property of certain persons undermining the sovereignty of Lebanon or its democratic processes or institutions and certain other persons, pursuant to the International Emergency Economic Powers Act (50 U.S.C. 1701-1706). I took this action to deal with the unusual and extraordinary threat to the national security and foreign policy of the United States constituted by the actions of certain persons to undermine Lebanon's legitimate and democratically elected government or democratic institutions, to contribute to the deliberate breakdown in the rule of law in Lebanon, including through politically motivated violence and intimidation, to reassert Syrian control or contribute to Syrian interference in Lebanon, or to infringe upon or undermine Lebanese sovereignty which contributes to political and economic instability in that country and the region.

Because these actions continue to pose an unusual and extraordinary threat to the national security and foreign policy of the United States, the national emergency declared on August 1, 2007, and the measures adopted on that date to deal with that emergency, must continue in effect beyond August 1, 2008. Therefore, in accordance with section 202(d) of the National Emergencies Act (50 U.S.C. 1622(d)), I am continuing for 1 year the national emergency declared in Executive Order 13441.

This notice shall be published in the Federal Register and transmitted to the Congress.

THE WHITE HOUSE,

July 30, 2008.

[FR Doc. E8-17787 Filed 7-30-08; 10:30 am]